DEPARTMENT OF EDUCATION

Submission for OMB Review; Comment Request

AGENCY: Department of Education.

SUMMARY: The Director, Information Collection Clearance Division, Regulatory Information Management Services, Office of Management invites comments on the submission for OMB review as required by the Paperwork Reduction Act of 1995 (Pub. L. 104-13).

DATES: Interested persons are invited to submit comments on or before August 12, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. chapter 35) requires that the Office of Management and Budget (OMB) provide interested Federal agencies and the public an early opportunity to comment on information collection requests. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology.

Dated: July 7, 2010.
Darrin A. King,
Director, Information Collection Clearance Division, Regulatory Information Management Services, Office of Management.

Institute of Education Sciences

Type of Review: Revision.

Title of Collection: Program for International Student Assessments (PISA) 2012 Recruitment and Field Test.

OMB #: 1850-0755.

Agency Form Number(s): N/A.

Frequency of Responses: Annually.

Affected Public: Individuals or households.

Estimated Number of Annual Responses: 2,087.

Estimated Annual Burden Hours: 1,057.

Abstract: The Program for International Student Assessment (PISA) is an international assessment that focuses on 15-year-olds' capabilities in reading, mathematics, and science literacy. It was first implemented by the National Center for Education Statistics (NCES) in 2000 and has been administered every three years since. This submission is for the fifth cycle in the series, PISA 2012, and requests OMB approval for field test and main study recruitment, field trial data collection, and a waiver of the 60-day Federal Register notice for the main study clearance in 2012. As in 2003, in PISA 2012, mathematics will be the major subject domain. The field test will also include computer-based assessments in reading, science, and general problem solving, and an assessment of financial literacy in a paper-and-pencil format. The United States may decide to participate in these components in the main study as well, based on the results of the field test. In addition to assessment data, PISA provides background information on school context and student demographics to benchmark performance and inform policy. School recruitment for the field test will begin in September 2010 with data collection beginning in March 2011. Main study recruitment will begin in September 2011 with data collection beginning in September 2012. The PISA 2012 field test sample will include about 35 schools (main study sample about 150) and about 1,600 students (4,500-5,700 for the main study, depending on the components administered). In January 2011 NCES will submit the final field trial instruments to OMB; then, following the field test study, in May 2011, NCES will submit to OMB the final main study recruitment materials, design, and burden; and in spring 2012, NCES will submit the final main study instruments.

Requests for copies of the information collection submission for OMB review may be accessed from the RegInfo.gov Web site at http://www.reginfo.gov/public/do/PRAMain or from the Department's Web site at http://edicsweb.ed.gov, by selecting the “Browse Pending Collections” link and by clicking on link number 4303. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title and OMB Control Number of the information collection when making your request.

Individuals who use a telecommunications device for the deaf (TDD) may call the Federal Information Relay Service (FIRS) at 1-800-877-8339.

[FR Doc. 2010-16942 Filed 7-12-10; 8:45 am]

BILLING CODE 4000-01-P